DEPARTMENT OF HEALTH AND HUMAN SERVICES

Centers for Medicare & Medicaid Services

42 CFR Parts 410, 411, 414, 415, and 485

[CMS-1413-CN2]

RIN 0938-AP40

Medicare Program; Payment Policies Under the Physician Fee Schedule and Other Revisions to Part B for CY 2010; Correction

AGENCY: Centers for Medicare & Medicaid Services (CMS), HHS.

ACTION: Correction of proposed rule.

SUMMARY: This document corrects technical errors in the proposed rule entitled “Medicare Program; Payment Policies Under the Physician Fee Schedule and Other Revisions to Part B for CY 2010” which appeared in the July 13, 2009 Federal Register.

FOR FURTHER INFORMATION CONTACT: Aucha Prachanronarong, (410) 786-1879.

SUPPLEMENTARY INFORMATION:

I. Background and Summary of Errors

In FR Doc. E9-15835 of July 13, 2009, there were technical errors that are identified and corrected in the Correction of Errors section below.

In the Physician Quality Reporting Initiative section of the preamble to the proposed rule (section II.G.2.), we inadvertently omitted eight measures in our discussion of the new individual quality measures proposed for 2010.

II. Correction of Errors

In FR Doc. E9-15835 of July 13, 2009 (74 FR 33520), make the following corrections:

1. On page 33574, second column, first full paragraph, the number “168” is corrected to read “176.”

2. On page 33580, bottom fourth of the page, third column, last paragraph, the number “22” is corrected to read “30.”

3. On page 33581,

a. Top of the page,

(1) Second column, first paragraph, line 11, the number “22” is corrected to read “30.”

(2) Third column, first full paragraph,

(a) Line 3, the phrase “16 of these 22 measures” is corrected to read “24 of these 30 measures.”

(b) Line 6, the number “16” is corrected to read “24.”

b. Bottom two-thirds of the page, in Table 19—New Individual Quality Measures Proposed for 2010, after the last measure titled ” HIV/AIDS: Sexually Transmitted Diseases—Syphilis Screening” add the following measures:

Measure title | NQF endorsement status as of 5/1/09 | AQA adoption status as of 1/31/09 | Measure developer | Reporting mechanism(s)
Functional Communication Measure: Spoken Language Comprehension | Yes | No | American Speech-Language-Hearing Association (ASHA) | Registry.
Functional Communication Measure: Attention | Yes | No | ASHA | Registry.
Functional Communication Measure: Memory | Yes | No | ASHA | Registry.
Functional Communication Measure: Motor Speech | Yes | No | ASHA | Registry.
Functional Communication Measure: Reading | Yes | No | ASHA | Registry.
Functional Communication Measure: Spoken Language Expression | Yes | No | ASHA | Registry.
Functional Communication Measure: Writing | Yes | No | ASHA | Registry.
Functional Communication Measure: Swallowing | Yes | No | ASHA | Registry.

Authority: Catalog of Federal Domestic Assistance Program No. 93.773, Medicare—Hospital Insurance; and Program No. 93.774, Medicare—Supplementary Medical Insurance Program.

Dated: July 31, 2009.
Dawn Smalls,
Executive Secretary to the Department.

[FR Doc. E9-18840 Filed 8-3-09; 4:15 pm]

BILLING CODE 4120-01-P